DEPARTMENT OF HEALTH AND HUMAN SERVICES

Health Care Financing Administration

[HCFA-3067-N]

Medicare Program; Request for Nominations for Members for the Medicare Coverage Advisory Committee (MCAC)

AGENCY: Health Care Financing Administration (HCFA), HHS.

ACTION: Notice.

SUMMARY: This notice requests nominations for consideration for members of the Medicare Coverage Advisory Committee.

DATES: Nominations will be considered if we receive them at the designated address, as provided below, no later than 5 p.m. on May 30, 2001.

ADDRESSES: You may mail or deliver nominations for membership to the following address: Health Care Financing Administration, Attention: Constance Conrad, 7500 Security Blvd., Mail Stop: South Building 3-02-01, Baltimore, MD 21244.

A request for a copy of the Secretary's Charter for the Medicare Coverage Advisory Committee (MCAC) should be submitted to Maria Ellis, Office of Clinical Standards and Quality, Health Care Financing Administration, 7500 Security Blvd., Mail Stop: South Building 3-02-01, Baltimore, MD 21244, or by e-mail to mellis@hcfa.gov. The charter is also posted on the web at www.hcfa.gov/coverage, and can be readily printed from that site.

FOR FURTHER INFORMATION CONTACT: Constance A. Conrad, Health Care Financing Administration, 7500 Security Blvd., Baltimore, MD 21244, 410-786-4631.

SUPPLEMENTARY INFORMATION:

Background

The Medicare Coverage Advisory Committee (MCAC) is governed by provisions of the Federal Advisory Committee Act, Public Law 92-463, as amended (5 USC Appendix 2), which sets forth standards for the formulation and use of advisory committees, and authorized by section 222 of the Public Health Service Act as amended (42 U.S.C. 217A).

The MCAC consists of no more than 120 appointed members from among authorities in clinical and administrative medicine, biologic and physical sciences, public health administration, health care data and information management and analysis, the economics of health care, medical ethics, and other related professions. A maximum of 9 members are standard voting members, and 24 are nonvoting members, 12 of which are representatives of consumer interests, and 12 of which are representatives of industry interests.

The MCAC functions on a panel basis. The panels review and evaluate medical literature, review technical assessments, and examine data and information on the effectiveness and appropriateness of medical items and services that are covered or eligible for coverage under Medicare. Panel meetings generally follow an agenda that we provide that lists specific issues. The panels develop technical advice to aid us in determining reasonable and necessary applications of medical services and technology when we make national coverage decisions for Medicare.

A few vacancies exist on the current MCAC panel rosters, and terms for some members currently serving will expire before January 1, 2002. Accordingly, we are requesting nominations for both voting and nonvoting members to serve on the MCAC. Nominees are selected based upon their individual qualifications and not as representatives of professional associations or societies. We have a special interest in ensuring that women, minority groups, and physically challenged individuals are adequately represented on the MCAC. Therefore, we encourage nominations of qualified candidates from these groups.

All nominations and curricula vitae for the MCAC should be sent to Constance Conrad at the address above.

Criteria for Members

Nominees should have expertise in one or more of the following fields: clinical and administrative medicine, biologic and physical sciences, public health administration, health care data and information management and analysis, the economics of health care, medical ethics, and other related professions.

We are also seeking nominations for nonvoting consumer and industry representatives. Nominees for these positions must possess appropriate qualifications to understand and contribute to the MCAC's work.

Nominations must state that the nominee is willing to serve as a member of the MCAC and appears to have no conflict of interest that would preclude membership. Potential candidates will be asked to provide detailed information concerning such matters as financial holdings, consultancies, and research grants or contracts in order to permit evaluation of possible sources of conflict of interest.

Members are invited to serve for overlapping 4-year terms; terms of more than 2 years are contingent upon the renewal of the MCAC by appropriate action before its termination on November 23, 2002. A member may serve after the expiration of the member's term until a successor has taken office.

Any interested person may nominate one or more qualified persons. Self-nominations are also accepted.

Authority: 5 U.S.C. App. 2, section 10(a)(1) and (a)(2).

(Catalog of Federal Domestic Assistance Program No. 93.774, Medicare—Supplementary Medical Insurance Program)
Dated: April 6, 2001.
Jeffrey L. Kang,
Director, Office of Clinical Standards and Quality, Health Care Financing Administration.

[FR Doc. 01-10639 Filed 4-27-01; 8:45 am]

BILLING CODE 4120-01-P